SOCIAL SECURITY ADMINISTRATION

20 CFR Part 404

[Docket No. SSA-2006-0179]

RIN 0960-AG21

New Medical Criteria for Evaluating Language and Speech Disorders

AGENCY: Social Security Administration.

ACTION: Advance Notice of Proposed Rulemaking.

SUMMARY: We are considering whether to propose new rules for evaluating language and speech disorders. The new rules would apply to disability claims involving language and speech disorders in adults and children under titles II and XVI of the Social Security Act (Act). Specifically, we are considering whether to add a new body system in the Listing of Impairments in appendix 1 to subpart P of part 404 of our regulations (listings) for these disorders. We are requesting your comments about whether we should establish these new rules, as well as suggestions about what the proposed rules should include. If we decide to propose specific listings, we will publish a Notice of Proposed Rulemaking (NPRM) in the Federal Register.

DATES: To be sure that we consider your comments, we must receive them by no later than April 6, 2012.

ADDRESSES: You may submit comments by any one of three methods—Internet, fax, or mail. Do not submit the comments multiple times or by more than one method. Regardless of which method you choose, please state that your comments refer to Docket No. SSA-2006-0179 so that we may associate your comments with the correct regulation.

Caution: You should be careful to include in your comments only information that you wish to make publicly available. We strongly urge you not to include in your comments any personal information, such as Social Security numbers or medical information.

1. Internet: We strongly recommend that you submit your comments via the Internet. Please visit the Federal eRulemaking portal at http://www.regulations.gov. Use the Search function to find docket number SSA-2006-0179. The system will issue you a tracking number to confirm your submission. You will not be able to view your comment immediately because we must post each comment manually. It may take up to a week for your comment to be viewable.

2. Fax: Fax comments to (410) 966-2830.

3. Mail: Address your comments to the Office of Regulations, Social Security Administration, 107 Altmeyer Building, 6401 Security Boulevard, Baltimore, MD 21235-6401.

Comments are available for public viewing on the Federal eRulemaking portal at http://www.regulations.gov or in person, during regular business hours, by arranging with the contact person identified below.

FOR FURTHER INFORMATION CONTACT: Cheryl A. Williams, Office of Medical Listings Improvement, Social Security Administration, 6401 Security Boulevard, Baltimore, Maryland 21235-6401, (410) 965-1020. For information on eligibility or filing for benefits, call our national toll-free number, 1-(800) 772-1213, or TTY 1-(800) 325-0778, or visit our Internet site, Social Security Online, at http://www.socialsecurity.gov.

SUPPLEMENTARY INFORMATION:

What is the purpose of this advance notice of proposed rulemaking (ANPRM)?

We are considering whether to add to our listings a new body system for evaluating language and speech disorders. The new listings would apply to claims involving language and speech disorders in adults and children under titles II and XVI of the Act. This notice gives you an opportunity to send us comments about whether we should establish these new rules and, if so, suggestions about what the proposed rules should include.

Why are we considering new listings for language and speech disorders?

Our current listings provide criteria for evaluating language and speech disorders in several body systems, including Special Senses and Speech, Neurological, and Mental Disorders. Some of these listings describe language or speech disorders that result from or occur with specific disorders, such as cerebral palsy (listing 11.07C). Other listings describe language or speech disorders in terms of the resulting limitations in functioning, such as loss of speech with the inability to produce by any means speech that can be heard, understood, or sustained (listing 2.09). We are considering whether it would be better to establish a new body system that would:

• Use consistent terminology for describing language or speech disorders;

• Describe listing-level impairments for people who have very serious language or speech problems; and

• Provide clear and comprehensive criteria for evaluating all language and speech problems in adults and children, regardless of their cause.

Who should send us comments and suggestions?

We invite comments and suggestions from anyone who has an interest in how we evaluate claims for benefits in our disability programs that are filed by people who have language and speech disorders. We are interested in comments and suggestions from people who apply for or receive benefits from us, members of the general public, advocates and organizations that represent people who have language or speech disorders, State agencies that make disability determinations for us, experts in the evaluation of language or speech disorders, and researchers.

What should you comment about?

We are interested in knowing whether you think it is a good idea to establish a new body system in our listings for language and speech disorders and, if so, what the new listings should say. For example, do you have any ideas about how we should:

• Describe listing-level severity for particular kinds of language and speech disorders in both adults and children?

• Consider language and speech disorders when they result from neurological disorders?

• Consider language and speech disorders when they have no identifiable cause?

• Consider language and speech problems in young children when they have delayed or disordered language and speech development?

• Consider communication demands in a school setting when we evaluate language and speech disorders in children?

• Consider communication demands in a work setting when we evaluate language and speech disorders in adults?

We are also interested in knowing what guidelines for documenting and evaluating language and speech disorders you believe we should include in the introductory section for the new body system.

Will we respond to your comments?

We will not respond directly to the comments you send in response to this ANPRM. When we decide whether to propose new rules for evaluating language and speech disorders, we will consider:

• All comments and suggestions we receive in response to this notice;

• The comments and suggestions that we received in response to the ANPRM that we published on April 13, 2005 (70 FR 19351); ¹

¹ The comments we received in response to this ANPRM are available at: http://www.regulations.gov, under Docket SSA-2006-0179.

• Information we received at a Policy Conference on Language and Speech Disorders in the Disability Program, held September 26-27, 2005; ²

² The full transcripts for the Policy Conference are available at: http://www.regulations.gov, under Document IDs SSA-2006-0179-0002 and SSA-2006-0179-0003.

• Information about advances in medical knowledge, treatment, and methods of evaluating impairments that affect language or speech; and

• Our disability program experience.

If we propose new rules, we will publish an NPRM in the Federal Register and you will have a chance to comment on the proposed rules.

List of Subjects in 20 CFR Part 404

Administrative practice and procedure, Blind, Disability benefits, Old-age, survivors and disability insurance, Reporting and recordkeeping requirements, Social Security.

Michael J. Astrue,
Commissioner of Social Security.

[FR Doc. 2012-2498 Filed 2-3-12; 8:45 am]

BILLING CODE 4191-02-P